DEPARTMENT OF THE INTERIOR

Bureau of Land Management

[19X LLUTG01000 L91450000.EJ0000]

Notice of Termination of the Environmental Impact Statement for the Crescent Point Energy Utah Federal-Tribal Well Development Project, Duchesne and Uintah Counties, Utah

AGENCY: Bureau of Land Management, Interior.

ACTION: Notice of termination.

SUMMARY: In accordance with the National Environmental Policy Act, on April 8, 2016, the Bureau of Land Management (BLM) Vernal Field Office published a Notice of Intent (NOI) to prepare an Environmental Impact Statement (EIS) for the proposed Crescent Point Energy Utah Federal-Tribal Well Development Project in Duchesne and Uintah Counties, Utah. The Notice announced the beginning of the scoping process for solicitation of input on the identification of issues and evaluation of the effects of the proposed development by Crescent Point Energy. The proposed EIS would have evaluated the effects of the proposed development in the Uinta Basin. On December 12, 2018, Crescent Point Energy withdrew its proposed action. The BLM is therefore terminating the EIS process.

DATES: Termination of the EIS for the proposed Crescent Point Energy Utah Federal-Tribal Well Development Project in Duchesne and Uintah Counties, Utah, takes effect immediately.

FOR FURTHER INFORMATION CONTACT: Stephanie Howard, Project Manager, 170 S 500 E, Vernal, UT 84078; telephone: (435) 781-4469; email: showard@blm.gov. Persons who use a telecommunications device for the deaf (TDD) may call the Federal Relay Service (FRS) at 1-800-877-8339 to contact Ms. Howard during normal business hours. FRS is available 24 hours a day, 7 days a week, to leave a message or question. You will receive a reply during normal business hours.

SUPPLEMENTARY INFORMATION: The applicant, Crescent Point Energy, had filed a plan of development for their Federal, State, private, and tribal trust leases. Crescent Point proposed to drill up to 3,925 new oil and gas wells and build 863 miles of roads; 693 miles of pipelines co-located with the proposed roads; 170 miles of cross-country pipelines; 400 miles of trunk pipelines; 5 salt water disposal wells; 5 produced water treatment facilities; 20 central tank batteries; 4 gas processing plants; 8 oil storage areas; and 4 equipment storage areas. Since the BLM published a NOI in the Federal Register (81 FR 20668), the applicant has acquired significant additional assets, changed its drilling techniques, and revised its corporate strategy such that the original proposed action no longer reflects its plans for the project area. In accordance with the applicant's December 12, 2018, request, the BLM is terminating the EIS in accordance with BLM Manual Handbook H-1790-1 Section 9.8.

Edwin L. Roberson,
State Director.

[FR Doc. 2019-09116 Filed 5-2-19; 8:45 am]

BILLING CODE 4310-DQ-P